DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Federal Emergency Management Agency (FEMA) Mitigation Success Story Database.

Type of Information Collection: Existing collection in use without an OMB Control Number.

OMB Number: OMB No. 1660-NEW6.

Abstract: This Web-based database serves a dual purpose in providing a centralized and user-friendly venue for gaining and disseminating knowledge about effective and efficient mitigation strategies implemented in communities nationwide. By sharing information, communities and individuals can learn about available Federal programs to support implementation of mitigation projects relevant to individual conditions and characteristics.

Affected Public: State, local and tribal governments, individuals, business or other for-profit organizations, not-for profit institutions, and Federal government.

Number of Respondents: 150.

Estimated Time per Respondent: The electronic submission takes approximately 30 minutes for filling in all fields in the submission form, and approximately 1 hour to conceptualize the narrative description for a total of 1.5 hours. Respondents choosing to supply the information directly to FEMA Regional or HQ staff or to a Disaster Field Office (DFO) staff may spend up to 4 hours, which includes initial interview and follow-up sessions (when needed and agreed upon by the respondent on a voluntary basis).

Estimated Total Annual Burden Hours: 563 hours.

Frequency of Response: One time.

Comments: Interested persons are invited to submit written comments on the proposed information collection to the Office of Information and Regulatory Affairs at OMB, Attention: Desk Officer for the Emergency Preparedness and Response Directorate/Federal Emergency Management Agency, U.S. Department of Homeland Security, 725 17th Street, NW., Docket Library Room 10102, Washington, DC 20503. Comments must be submitted on or before July 19, 2004. In addition, interested persons may also send comments to FEMA (see contact information below).

FOR FURTHER INFORMATION CONTACT: Requests for additional information or copies of the information collection should be made to Muriel B. Anderson, Chief, Records Management, FEMA at 500 C Street, SW., Room 316, Washington, DC 20472, facsimile number (202) 646-3347, or e-mail address FEMA-Information-Collections@dhs.gov.

Dated: June 9, 2004.
Edward W. Kernan,
Branch Chief, Information Resources Management Branch, Information Technology Services Division.

[FR Doc. 04-13776 Filed 6-17-04; 8:45 am]

BILLING CODE 9110-13-P